FEDERAL COMMUNICATIONS COMMISSION

Public Information Collections Approved by Office of Management and Budget

April 18, 2000.

The Federal Communications Commission (FCC) has received Office of Management and Budget (OMB) approval for the following public information collections pursuant to the Paperwork Reduction Act of 1995, Public Law 96-511. An agency may not conduct or sponsor a collection of information unless it displays a currently valid control number. Not withstanding any other provisions of law, no person shall be subject to any penalty for failing to comply with a collection of information subject to the Paperwork Reduction Act (PRA) that does not display a valid control number. Questions concerning the OMB control numbers and expiration dates should be directed to Judy Boley, Federal Communications Commission, (202) 418-0214.

Federal Communications Commission

OMB Control No.: 3060-0910.

Expiration Date: 03/31/2003.

Title: Third Report and Order in CC Docket No. 94-102, Revision of the Commission's Rules to Ensure Compatibility with Enhanced 911 Emergency Calling Systems.

Form No.: N/A.

Estimated Annual Burden: 8,000 Burden Hours Annually, 1 hour per response; 8,000 responses.

Description: The information required to be reported to the Commission by wireless carriers will provide PSAPs, providers of location technology, investors, manufacturers, local exchange carriers, and the Commission with valuable information necessary for preparing for full Phase II E911 implementation. The advance reports will provide helpful, if not essential, information for coordinating carrier plans with those of manufacturers and PSAPs. Also, they will assist the Commission's efforts to monitor Phase II developments and to take necessary actions to maintain the Phase II implementation schedule.

OMB Control No.: 3060-0732.

Expiration Date: 04/30/2003.

Title: Consumer Education Concerning Wireless 911.

Form No.: N/A.

Estimated Annual Burden: 1,563 Burden Hours Annually, 30 minutes to 1 hour per response; 2,500 responses.

Description: The information collected will be used by consumers to determine rationally and accurately the scope of their options in accessing 911 services from mobile sets.

Federal Communications Commission.
William F. Caton,
Deputy Secretary.

[FR Doc. 00-10447 Filed 4-26-00; 8:45 am]

BILLING CODE 6712-01-U